DEPARTMENT OF THE INTERIOR

National Park Service

[NPS-WASO-NAGPRA-11440; 2200-1100-665]

Notice of Inventory Completion: U.S. Department of the Interior, Bureau of Indian Affairs, Washington, DC, and U.S. Department of the Interior, National Park Service, Western Archeological and Conservation Center, Tucson, AZ

AGENCY: National Park Service, Interior.

ACTION: Notice.

SUMMARY: The U.S. Department of the Interior, Bureau of Indian Affairs, and U.S. Department of the Interior, National Park Service, Western Archeological and Conservation Center, have completed an inventory of human remains and associated funerary objects in consultation with the appropriate Indian tribes, and have determined that there is a cultural affiliation between the human remains and associated funerary objects and present-day Indian tribes. Representatives of any Indian tribe that believes itself to be culturally affiliated with the human remains and associated funerary objects may contact the U.S. Department of the Interior, Bureau of Indian Affairs. Repatriation of the human remains and associated funerary objects to the Indian tribes stated below may occur if no additional claimants come forward.

DATES: Representatives of any Indian tribe that believes it has a cultural affiliation with the human remains and associated funerary objects should contact the U.S. Department of the Interior, Bureau of Indian Affairs at the address below by December 17, 2012.

ADDRESSES: Anna Pardo, Museum Program Manager/NAGPRA Coordinator, U.S. Department of the Interior, Indian Affairs, 12220 Sunrise Valley Drive, Room 6084, Reston, VA 20191, telephone (703) 390-6343.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of the U.S. Department of the Interior, National Park Service, Western Archeological and Conservation Center, Tucson, AZ. The human remains and associated funerary objects were removed from sites on the Gila River Indian Reservation in Pinal County, AZ.

This notice is published as part of the National Park Service's administrative responsibilities under NAGPRA, 25 U.S.C. 3003(d)(3). The determinations in this notice are the sole responsibility of the museum, institution, or Federal agency that has control of the Native American human remains and associated funerary objects.

Consultation

A detailed assessment of the human remains was made by National Park Service professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico (hereafter referred to as “The Tribes”').

History and Description of the Remains

In 1916, human remains representing, at minimum, one individual were removed from an unnamed site on the Gila River Indian Reservation in Pinal County, AZ, during the excavation of the Indian Hospital foundation. The human remains and associated funerary object were given to the National Park Service in 1916. Ownership was transferred to the Bureau of Indian Affairs in 2012. No known individuals were identified. The one associated funerary object is a cremation jar.

Between 1931 and 1934, human remains representing, at minimum, 12 individuals were removed from unnamed sites on the Gila River Indian Reservation in Pinal County, AZ. The human remains and associated funerary objects were given to the National Park Service in 1934. Ownership was transferred to the Bureau of Indian Affairs in 2012. No known individuals were identified. The 22 associated funerary objects are 8 jars, 2 bowls, 1 plate, 1 shell bracelet, 8 unworked shell pieces, and 2 awls.

The sites date to A.D. 975-1400. Oral tradition, historical records, ethnography, history, archeological evidence, and a cultural affiliation study indicate that The Tribes all have cultural ties to the sites from which the human remains and associated funerary objects were removed.

Determinations Made by the U.S. Department of the Interior, Bureau of Indian Affairs, Washington, DC, and the U.S. Department of the Interior, National Park Service

Officials of the Bureau of Indian Affairs and the National Park Service have determined that:

• Pursuant to 25 U.S.C. 3001(9), the human remains described in this notice represent the physical remains of 13 individuals of Native American ancestry.

• Pursuant to 25 U.S.C. 3001(3)(A), the 23 objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any Indian tribe that believes itself to be culturally affiliated with the human remains and associated funerary objects should contact Anna Pardo, Museum Program Manager/NAGPRA Coordinator, U.S. Department of the Interior, Indian Affairs, 12220 Sunrise Valley Drive, Room 6084, Reston, VA 20191, telephone (703) 390-6343, before December 17, 2012. Repatriation of the human remains and associated funerary objects to The Tribes may proceed after that date if no additional claimants come forward.

The Bureau of Indian Affairs is responsible for notifying The Tribes that this notice has been published.

Dated: October 16, 2012.
Sherry Hutt,
Manager, National NAGPRA Program.

[FR Doc. 2012-27944 Filed 11-15-12; 8:45 am]

BILLING CODE 4312-50-P